DEPARTMENT OF ENERGY

Federal Energy Regulatory Commission

[Docket No. IC18-8-000]

Commission Information Collection Activities (FERC-716); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, [FERC-716, Good Faith Requests for Transmission Service and Good Faith Responses by Transmitting Utilities Under Sections 211(a) and 213(a) of the Federal Power Act (FPA)].

DATES: Comments on the collection of information are due April 9, 2018.

ADDRESSES: You may submit comments (identified by Docket No. IC18-8-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Title: FERC-716, Good Faith Requests for Transmission Service and Good Faith Responses by Transmitting Utilities Under Sections 211(a) and 213(a) of the Federal Power Act (FPA).

OMB Control No.: 1902-0170.

Type of Request: Three-year extension of the FERC-716 information collection requirements with no changes to the current reporting requirements.

Abstract: The Commission uses the information collected under the requirements of FERC-716 to implement the statutory provisions of Sections 211 and Section 213 of the Federal Power Act as amended and added by the Energy Policy Act 1992. FERC-716 also includes the requirement to file a Section 211 request if the negotiations between the transmission requestor and the transmitting utility are unsuccessful. For the initial process, the information is not filed with the Commission. However, the request and response may be analyzed as a part of a Section 211 action. The Commission may order transmission services under the authority of FPA 211.

The Commission's regulations in the Code of Federal Regulations (CFR), 18 CFR 2.20, provide standards by which the Commission determines if and when a valid good faith request for transmission has been made under section 211 of the FPA. By developing the standards, the Commission sought to encourage an open exchange of data with a reasonable degree of specificity and completeness between the party requesting transmission services and the transmitting utility. As a result, 18 CFR 2.20 identifies 12 components of a good faith estimate and 5 components of a reply to a good faith request.

Type of Respondents: Transmission Requestors and Transmitting Utilities.

Estimate of Annual Burden ¹: The Commission estimates the annual public reporting burden for the information collection as:

¹ The Commission defines burden as the total time, effort, or financial resources expended by persons to generate, maintain, retain, or disclose or provide information to or for a Federal agency. For further explanation of what is included in the information collection burden, reference 5 Code of Federal Regulations 1320.3.

² The estimates for cost per response are derived using the following formula: Average Burden Hours per Response * $76.50 per Hour = Average Cost per Response. The cost per hour figure is the FERC average salary plus benefits. Subject matter experts found that industry employment costs closely resemble FERC's regarding the FERC-716 information collection.

FERC-716 (Good Faith Requests for Transmission Service and Good Faith Responses by Transmitting Utilities Under Sections 211(a) and 213(a) of the Federal Power Act (FPA))
| Number of respondents | Annual number of responses per respondent | Total number of responses | Average burden and cost per response ² | Total annual burden hours and total annual cost | Cost per respondent ($)
| (1) | (2) | (1) * (2) = (3) | (4) | (3) * (4) = (5) | (5) ÷ (1)
Information exchange between parties | 3 | 1 | 3 | 100 hrs.; $7650 | 300 hrs.; $22,950 | 7,650
Application submitted to FERC if parties' negotiations are unsuccessful | 3 | 1 | 3 | 2.5 hrs.; $191.25 | 7.5 hrs.; $573.75 | 191.25
Total |  |  | 6 |  | 307.5 hrs.; $23,523.75 | 7,841.25

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 1, 2018.
Kimberly D. Bose,
Secretary.

[FR Doc. 2018-02409 Filed 2-6-18; 8:45 am]

BILLING CODE 6717-01-P